DEPARTMENT OF THE INTERIOR

Bureau of Land Management

[NM-932-1320-05; NMNM 99144]

Notice of Coal Lease Offering

AGENCY: Bureau of Land Management, Interior.

ACTION: Notice of competitive coal lease sale.

SUMMARY: Notice is hereby given that certain coal resources in the tract described below in San Juan County, New Mexico, will be offered for competitive lease by sealed bid in accordance with the provisions of the Mineral Leasing Act of 1920, as amended (30 U.S.C. 181 et seq.)

DATES: The lease sale will be held at 10:00 a.m., Friday, May 12, 2000. Sealed bids must be submitted on or before 9:00 a.m., on May 12, 2000.

ADDRESSES: The lease sale will be held in the BLM Conference Room, located at 1474 Rodeo Road, Sante Fe, NM 97505. Sealed bids must be submitted on or before 9:00 a.m. on May 12, 2000, to: Cashier, New Mexico State Office, P.O. Box 27115, Santa Fe, NM 87502-0115.

FOR FURTHER INFORMATION CONTACT: Ida T. Viarreal at (505) 438-7603.

SUPPLEMENTARY INFORMATION: The tract will be leased to the qualified bidder(s) submitting the highest cash offer provided that the high bids meet or exceed the fair market value of the tracts as determined by the authorized officer after the sale. Each bid should be clearly identified by tract number or serial number on the outside of the envelope containing the bid(s). No bid that is less than $100.00 per acre, or fraction thereof, will be considered. This $100.00 per acre is a regulatory minimum, and is not intended to reflect the fair market value of the tract.

Sealed bids clearly marked “Sealed Bid for NMNM 99144 Coal Sale—Not to be opened before 10 a.m. Friday, May 12, 2000.” must be received on or before 9 a.m., Friday, May 12, 2000. Bids should be sent by certified mail, return receipt requested, or should be hand delivered. The cashier will issue a receipt for each hand delivered sealed bid. Bids received after 9 a.m., on May 12, 2000, will not be considered. The minimum bid is not intended to represent fair market value. The fair market value of the tract will be determined by the Authorized Officer after the sale. If identical high sealed bids are received, the tying bidders will be requested to submit follow-up sealed bids until a high bid is received. All tie-breaking sealed bids must be within 15 minutes following the sale official's announcement at the sale that identical sealed bids have been received.

Coal Tract To Be Offered

The coal resources to be offered consist of all recoverable reserves in the following described lands located in San Juan County, New Mexico and are described as follows:

T. 30 N., R. 14 W., NMPM

Sec. 17, ALL;

Sec. 18, ALL;

Sec. 19, ALL;

Sec. 20, ALL;

Sec. 29, ALL;

Sec. 30, ALL;

Sec. 31, Lots 1-4, N½N½S½.

Containing 4,483.99 acres, more or less.

The tract is covered with existing oil and gas leases. There are several oil and/or gas wells on the tract. The estimate of the bonus value of the coal will include consideration of future oil and gas production from these wells, as well as the value of undeveloped reserves. An economic analysis of this future income stream will determine whether a well, or reserves, is purchased by the coal operator prior to mining. Other costs considered will include moving and removing roads, pipelines, power lines and surface facilities.

Rental and Royalty

The lease issued as a result of this lease offering will require payment of an annual rental of $3.00 per acre or a fraction thereof, and a royalty payable to the United States of 12½ percent of the value of the coal removed by surface method and 8 percent of the value of the coal removed by underground methods. The value of the coal will be determined in accordance with 30 CFR § 206.250.

Notice of Availability

Bidding instructions for the offered tract is included in the Detailed Statement of Coal Lease Sale. Copies of the Statement and the proposed coal lease are available upon request in person or by mail from the BLM New Mexico State Office at the address shown above. The case files are available for inspection during normal business hours only at the Santa Fe, New Mexico location.

Dated: April 19, 2000.
Stephen D. Salzman,
Acting, State Director.

[FR Doc. 00-10273 Filed 4-25-00; 8:45 am]

BILLING CODE 4310-84-M